DEPARTMENT OF COMMERCE

International Trade Administration

[A-570-848]

Final Results of Expedited Sunset Review: Freshwater Crawfish Tail Meat From the People's Republic of China

AGENCY: Import Administration, International Trade Administration, Department of Commerce.

ACTION: Notice of Final Results of Expedited Sunset Review: Freshwater Crawfish Tail Meat From the People's Republic of China.

SUMMARY: On August 2, 2002, the Department of Commerce (“the Department”) published the notice of initiation of a five-year sunset review of the antidumping duty order on freshwater crawfish tail meat from the People's Republic of China (“PRC”), pursuant to section 751(c) of the Tariff Act of 1930, as amended (“the Act”).¹ On the basis of a notice of intent to participate and adequate substantive comments filed on behalf of domestic interested parties, and inadequate response (in this case no response) from respondent interested parties, the Department determined to conduct an expedited sunset review of this antidumping duty order. As a result of this review, the Department finds that revocation of the antidumping order would be likely to lead to continuation or recurrence of dumping at the levels indicated in the “Final Results of Review” section of this notice.

¹ Notice of Initiation of Five Year “Sunset” Review of Antidumping Duty Order on Freshwater Crawfish Tail Meat from the People's Republic of China, 67 FR 50420 (August 2, 2002).

EFFECTIVE DATE: December 6, 2002.

FOR FURTHER INFORMATION CONTACT: Amir R. Eftekhari or James P. Maeder, Jr., Office of Policy for Import Administration, International Trade Administration, U.S. Department of Commerce, 14th Street and Constitution Avenue, NW., Washington, DC 20230; telephone: (202) 482-5331 or (202) 482-3330.

SUPPLEMENTARY INFORMATION:

Statute and Regulations

This review is conducted pursuant to sections 751(c) and 752 of the Act. The Department's procedures for the conduct of sunset reviews are set forth in Procedures for Conducting Five-year ( “Sunset”) Reviews of Antidumping and Countervailing Duty Orders, 63 FR 13516 (March 20, 1998) (“Sunset Regulations”) and in 19 CFR part 351 (2002) in general. Guidance on methodological or analytical issues relevant to the Department's conduct of sunset reviews is set forth in the Department's Policy Bulletin 98:3 Policies Regarding the Conduct of Five-year (“Sunset”) Reviews of Antidumping and Countervailing Duty Orders; Policy Bulletin, 63 FR 18871 (April 16, 1998) (“Sunset Policy Bulletin”).

Scope of Review

The product covered by this review is freshwater crawfish tail meat, in all its forms (whether washed or with fat on, whether purged or unpurged), grades, and sizes; whether frozen, fresh, or chilled; and regardless of how it is packed, preserved, or prepared. Excluded from the scope of the investigation and order are live crawfish and other whole crawfish, whether boiled, frozen, fresh, or chilled. Also excluded are saltwater crawfish of any type, and parts thereof. Freshwater crawfish tail meat is currently classifiable in the Harmonized Tariff Schedule of the United States (HTSUS) under HTSUS subheading 0306.19.00.10 and 0306.29.00.00. The HTSUS subheadings are provided for convenience and Customs purposes only. The written description of the scope of this proceeding is dispositive.

Background

On August 2, 2002, the Department published the notice of initiation of the five-year sunset review of the antidumping duty order on freshwater crawfish tail meat from the PRC in accordance with section 751(c) of the Act.² On August 16, 2002, the Department received a Notice of Intent to Participate on behalf of the Crawfish Processors Alliance (“CPA”) and its members; the Louisiana Department of Agriculture and Forestry (“LDAF”); Bob Odom, Commissioner; and the Domestic Parties ³ (collectively, “the domestic interested parties”) as specified in section 351.218(d)(1)(i) of the Sunset Regulations.

² Notice of Initiation of Five Year “Sunset” Review of Antidumping Duty Order on Freshwater Crawfish Tail Meat from the People's Republic of China, 67 FR 50420 (August 2, 2002).

³ The “Domestic Parties” are an ad hoc association comprising the CPA, LDAF, Commissioner Odom, and each of the individual members of the CPA listed in Exhibit A of the Petitioner's Substantive Response dated September 2, 2002. The Domestic Parties are “ ‘an association, a majority of whose members is composed of interested parties described in subparagraph (C), (D), or (E) of {19 U.S.C. 1677(9)}[771(9)(C)(D)(E) of the Act] with respect to the domestic like product,’ and are an interested party under 19 U.S.C. 1677(9) [771(9)(F) of the Act].”

On September 3, 2002, the Department received a complete substantive response from the domestic interested parties, as specified in the Sunset Regulations under section 351.218(d)(3)(i).

The Department did not receive a substantive response from any respondent interested party in this proceeding. Consequently, pursuant to section 751(c)(3)(B) of the Act, and 19 CFR 351.218(e)(1)(ii)(C), the Department conducted an expedited (120-day) sunset review of this order.

Analysis of Comments Received

All issues raised by the domestic interested parties to this sunset review are addressed in the Issues and Decision Memorandum (“Decision Memorandum”) from Jeffrey A. May, Director, Office of Policy, Import Administration, to Faryar Shirzad, Assistant Secretary for Import Administration, dated November 29, 2002, which is adopted by this notice. The issues discussed in the Decision Memorandum include the likelihood of continuation or recurrence of dumping and the magnitude of the margin likely to prevail were the order revoked. Parties can find a complete discussion of all issues raised in this sunset review and the corresponding recommendations in this public memorandum which is on file in the Central Records Unit, room B-099, of the Department's main building.

In addition, a complete version of the Decision Memorandum can be accessed directly on the internet at http://ia.ita.doc.gov/frn, under the heading “November 2002.” The paper copy and electronic version of the Decision Memorandum are identical in content.

Final Results of Review

We determine that revocation of the antidumping duty order would likely lead to continuation or recurrence of dumping at the following percentage weighted-average margins:

Manufacturer/producers/ exporter | Weighted- average margin (percent)
China Everbright Trading Company | 156.77
Binzhou Prefecture Foodstuffs Import & Export Corp | 119.39
Huaiyin Foreign Trade Corp | 91.50
Yancheng Foreign Trade Corp | 108.05
Jiangsu Cereals, Oils & Foodstuffs Import & Export Corp | 122.92
Yancheng Baolong Aquatic Foods Co., Ltd | 122.92
Huaiyin Ningtai Fisheries Co., Ltd | 122.92
Nantong Delu Aquatic Food Co., Ltd | 122.92
PRC-wide Rate | 201.63

This notice serves as the only reminder to parties subject to administrative protective order (“APO”) of their responsibility concerning the disposition of proprietary information disclosed under APO in accordance with 19 CFR 351.305. Timely notification of return/destruction of APO materials or conversion to judicial protective order is hereby requested. Failure to comply with the regulations and the terms of an APO is a violation which is subject to sanction.

This five-year (“sunset”) review and notice are in accordance with sections 751(c), 752, and 777(i)(1) of the Act.

Dated: November 27, 2002.
Faryar Shirzad,
Assistant Secretary for Import Administration.

[FR Doc. 02-30870 Filed 12-5-02; 8:45 am]

BILLING CODE 3510-DS-P